DEPARTMENT OF VETERANS AFFAIRS

[OMB Control No. 2900-0570]

Agency Information Collection (Generic VHA Customer Satisfaction Surveys) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before February 7, 2008.

ADDRESSES: Submit written comments on the collection of information through www.Regulations.gov; or to VA's OMB Desk Officer, OMB Human Resources and Housing Branch, New Executive Office Building, Room 10235, Washington, DC 20503 (202) 395-7316. Please refer to “OMB Control No. 2900-0570” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-0570.”

SUPPLEMENTARY INFORMATION:

Title: Generic Clearance for the Veterans Health Administration Customer Satisfaction Surveys.

OMB Control Number: 2900-0570.

Type of Review: Extension of a currently approved collection.

Abstract: VA uses customer satisfaction surveys to obtain its patients perception on the type and quality of healthcare services they need and their satisfaction with existing services. The data collected will be used to improve the quality of healthcare services.

An agency may not conduct or sponsor, and a person is not required to respond to a collection of information unless it displays a currently valid OMB control number. The Federal Register Notice with a 60-day comment period soliciting comments on this collection of information was published on October 11, 2007, at page 57997.

Affected Public: Individuals or households.

Estimated Annual Burden:

a. Ad Hoc Facilities Surveys (VA Medical Facilities) and Special Emphasis Programs Conducted at Headquarters—29,455 hours.

b. Pre-approved Local Facilities Surveys (VA Medical Facilities)—95,892 hours.

Estimated Average Burden per Respondent:

c. Special Emphasis Programs Conducted at Headquarters—10.71 minutes.

d. Local Facilities Surveys (VA Medical Facilities)—8 minutes.

Frequency of Response: On occasion.

Estimated Number of Respondents:

a. Ad Hoc Facilities Surveys (VA Medical Facilities) and Special Emphasis Programs Conducted at Headquarters—165,012.

b. Pre-approved Local Facilities Surveys (VA Medical Facilities)—720,785.

Dated: December 28, 2007.
By direction of the Secretary.
Denise McLamb,
Program Analyst, Records Management Service.

[FR Doc. E8-65 Filed 1-7-08; 8:45 am]

BILLING CODE 8320-01-P